DEPARTMENT OF TRANSPORTATION

Federal Aviation Administration

14 CFR Part 39

[Docket No. FAA-2017-0632; Product Identifier 2017-NE-16-AD; Amendment 39-19487; AD 2018-23-01]

RIN 2120-AA64

Airworthiness Directives; Zodiac Seats France Cabin Attendant Seats

AGENCY: Federal Aviation Administration (FAA), DOT.

ACTION: Final rule.

SUMMARY: We are adopting a new airworthiness directive (AD) for certain Zodiac Seats France 536 Series Cabin Attendant Seats. This AD was prompted by cracks found in a highly concentrated stress area of the seat pan hinges. This AD requires repetitive inspections and replacement of the seat pan. We are issuing this AD to address the unsafe condition on these products.

DATES: This AD is effective December 28, 2018.

The Director of the Federal Register approved the incorporation by reference of a certain publication listed in this AD as of December 28, 2018.

ADDRESSES: For service information identified in this final rule, contact Zodiac Seats France, Rue Robert Marechal Senior B.P. 69, 36100 Issoudun, France; phone: +33 (0) 2 54 03 39 39; fax: +33 (0) 2 54 03 39 00; email: zs.tac@zodiacaerospace.com; internet: https://services.zodiacaerospace.com. You may view this service information at the FAA, Engine & Propeller Standards Branch, 1200 District Avenue, Burlington, MA, 01803. For information on the availability of this material at the FAA, call 781-238-7759. It is also available on the internet at http://www.regulations.gov by searching for and locating Docket No. FAA-2017-0632.

Examining the AD Docket

You may examine the AD docket on the internet at http://www.regulations.gov by searching for and locating Docket No. FAA-2017-0632; or in person at Docket Operations between 9 a.m. and 5 p.m., Monday through Friday, except Federal holidays. The AD docket contains this final rule, the mandatory continuing airworthiness information (MCAI), the regulatory evaluation, any comments received, and other information. The address for Docket Operations (phone: 800-647-5527) is U.S. Department of Transportation, Docket Operations, M-30, West Building Ground Floor, Room W12-140, 1200 New Jersey Avenue SE, Washington, DC, 20590.

FOR FURTHER INFORMATION CONTACT: Dorie Resnik, Aerospace Engineer, Boston ACO Branch, FAA, 1200 District Avenue, Burlington, MA, 01803; phone: 781-238-7693; fax: 781-238-7199; email: dorie.resnik@faa.gov.

SUPPLEMENTARY INFORMATION:

Discussion

We issued a notice of proposed rulemaking NPRM to amend 14 CFR part 39 by adding an AD that would apply to certain Zodiac Seats France 536 Series Cabin Attendant Seats. The NPRM published in the Federal Register on December 22, 2017 (82 FR 60690). The NPRM was prompted by cracks found in a highly concentrated stress area of the seat pan hinges. The NPRM proposed to require repetitive inspections of the affected cabin attendant seats and, depending on findings, replacement of the seat pan. We are issuing this AD to address the unsafe condition on these products.

The European Aviation Safety Agency (EASA), which is the Technical Agent for the Member States of the European Community, has issued EASA AD 2017-0001, dated January 6, 2017 (referred to after this as “the MCAI”) to correct an unsafe condition for the specified products. The MCAI states:

Cases of cracks were found on Zodiac Seats France cabin attendant seats 536 series installed on some ATR 42 and ATR 72 aeroplanes. The detected damage was located in the area of the seat pan hinges. Investigations identified that fatigue had caused these cracks in a highly concentrated stress area.

This condition, if not detected and corrected, could lead to failure of the seat, possibly resulting in injury to the seat occupant.

To address this potential unsafe condition, Zodiac Seats France issued Service Bulletin (SB) 536-25-003 to provide inspection and replacement instructions. Consequently, EASA issued AD 2016-0164, requiring repetitive visual inspections of the affected cabin attendant seats and, depending on findings, replacement of the seat pan.

Since that AD was issued, Zodiac Seats France developed a reinforced seat pan, and revised SB 536-25-003 accordingly. After installation of a reinforced seat pan, the seat P/N amendment status is updated.

For the reason described above, this AD retains the requirements of EASA AD 2016-0164, which is superseded, prohibits installation of unreinforced seat pans on seats already modified, and introduces the reinforced seat pan installation as optional terminating action for the repetitive inspections.

You may obtain further information by examining the MCAI in the AD docket on the internet at http://www.regulations.gov by searching for and locating Docket No. FAA-2017-0632.

Comments

We gave the public the opportunity to participate in developing this final rule. We received no comments on the NPRM or on the determination of the cost to the public.

Conclusion

We reviewed the relevant data and determined that air safety and the public interest require adopting this final rule as proposed except for minor editorial changes. We have determined that these minor changes:

• Are consistent with the intent that was proposed in the NPRM for addressing the unsafe condition; and

• Do not add any additional burden upon the public than was already proposed in the NPRM.

Related Service Information Under 1 CFR Part 51

We reviewed Zodiac Seats France Service Bulletin (SB) No. 536-25-003, Rev. 3, dated June 2, 2017. The SB describes procedures for inspection, modification, or replacement of the seat pan of certain model seats known to be installed on ATR 42 and ATR 72 airplanes. This service information is reasonably available because the interested parties have access to it through their normal course of business or by the means identified in the ADDRESSES section.

Costs of Compliance

We estimate that this AD affects 55 seat assemblies installed on, but not limited to, ATR 42 and ATR 72 airplanes of U.S. registry.

We estimate the following costs to comply with this AD:

Estimated Costs
Action | Labor cost | Parts cost | Cost per product | Cost on U.S. operators
Seat inspection, modification, or replacement | 1.2 work-hours × $85 per hour = $102 | $1,500 | $1,602 | $88,110

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-23-01 Zodiac Seats France (formerly SICMA Aero Seat): Amendment 39-19487; Docket No. FAA-2017-0632; Product Identifier 2017-NE-16-AD.

(a) Effective Date

This AD is effective December 28, 2018.

(b) Affected ADs

None.

(c) Applicability

(1) This AD applies to all Zodiac Seats France Cabin Attendant Seats, 536 Series, part numbers (P/N) 53600, all dash numbers, and all serial numbers, with seat pan P/N F0433453, installed.

(2) These appliances are installed on, but not limited to, ATR 42 and ATR 72 airplanes of U.S. registry.

(d) Subject

Joint Aircraft System Component (JASC) Code 2500, Cabin Equipment/Furnishings.

(e) Unsafe Condition

This AD was prompted by cracks found in a highly concentrated stress area of the seat pan hinges. We are issuing this AD to prevent failure of affected seats. The unsafe condition, if not addressed, could result in injury to the seat occupants.

(f) Compliance

Comply with this AD within the compliance times specified, unless already done.

(g) Required Actions

(1) Before exceeding 2,500 flight cycles (FCs), or within 100 FCs after the effective date of this AD, whichever occurs later, inspect the seat pan structure in both deployed and stowed positions using paragraph 2.A., Accomplishment Instructions, of Zodiac Seats France Service Bulletin (SB) No. 536-25-003, Rev. 3, dated June 2, 2017.

(2) If cracks are found, before the next flight:

(i) Replace seat pan with reinforced seat pan, P/N F0511530, using paragraph 2.B., Accomplishment Instructions, of Zodiac Seats France SB No. 536-25-003, Rev. 3, dated June 2, 2017.

(ii) Re-mark the seat using paragraph 2.C., Accomplishment Instructions, of Zodiac Seats France SB No. 536-25-003, Rev. 3, dated June 2, 2017.

(3) If no cracks are found, do the following:

(i) Re-mark the seat using paragraph 2.C., Accomplishment Instructions, of Zodiac Seats France SB No. 536-25-003, Rev. 3, dated June 2, 2017.

(ii) Reinspect the seat pan every 100 FCs since last inspection, or replace seat pan with reinforced seat pan, P/N F0511530, using paragraph 2.B., Accomplishment.

Instructions, of Zodiac Seats France SB No. 536-25-003, Rev. 3, dated June 2, 2017.

(4) After the effective date of this AD, and until compliance with this AD is accomplished, stow and secure an affected attendant seat in the retracted position to prevent occupancy, in accordance with the provisions and limitations of the applicable Master Minimum Equipment List item.

(h) Optional Terminating Action

Installation of a reinforced seat pan, P/N F0511530, using paragraph 2.B., Accomplishment Instructions, of Zodiac Seats France SB No. 536-25-003, Rev. 3, dated June 2, 2017, is terminating action to this AD.

(i) Credit for Previous Actions

You may take credit for inspections and modifications performed in accordance with Zodiac Seats France SB No. 536-25-003, Rev. 2, dated September 16, 2016, or earlier versions, if you performed these actions before the effective date of this AD.

(j) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the ACO Branch, send it to the attention of the person identified in paragraph (k)(1) of this AD. You may email your request to: 9-ane-boston-aco-amocrequests@faa.gov.

(2) Before using any approved AMOC, notify your appropriate principal inspector, or lacking a principal inspector, the manager of the local flight standards district office/certificate holding district office.

(k) Related Information

(1) For more information about this AD, contact Dorie Resnik, Aerospace Engineer, Boston ACO Branch, FAA, 1200 District Avenue, Burlington, MA, 01803; phone: 781-238-7693; fax: 781-238-7199; email: dorie.resnik@faa.gov.

(2) Refer to MCAI EASA AD 2017-0001, dated January 6, 2017, for more information. You may examine the MCAI in the AD docket on the internet at http://www.regulations.gov by searching for and locating it in Docket No. FAA-2017-0632.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Zodiac Seats France Service Bulletin No. 536-25-003, Rev. 3, dated June 2, 2017.

(ii) [Reserved.]

(3) For Zodiac Seats France service information identified in this AD, contact Zodiac Seats France, Rue Robert Marechal Senior B.P. 69, 36100 Issoudun, France; phone: +33 (0) 2 54 03 39 39; fax: +33 (0) 2 54 03 39 00; email: zs.tac@zodiacaerospace.com; internet: https://services.zodiacaerospace.com.

(4) You may view this service information at FAA, Engine & Propeller Standards Branch, 1200 District Avenue, Burlington, MA, 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on November 16, 2018.
Robert J. Ganley,
Manager, Engine and Propeller Standards Branch, Aircraft Certification Service.

[FR Doc. 2018-25436 Filed 11-21-18; 8:45 am]

BILLING CODE 4910-13-P